FEDERAL COMMUNICATIONS COMMISSION

47 CFR Part 1

[WT Docket No. 19-38; FCC 19-22]

Partitioning, Disaggregation, and Leasing of Spectrum

AGENCY: Federal Communications Commission.

ACTION: Proposed rule; correction.

SUMMARY: The Federal Communications Commission (Commission) published a document in the Federal Register of April 2, 2019, regarding the Commission's exploration of how potential changes to partitioning, disaggregation, and leasing rules might close the digital divide and to increase spectrum access by small and rural carriers. The document provided incorrect dates by which parties may file comments and reply comments, and incorrect contact information. This document corrects those dates and contact information.

DATES: The comment date for the proposed rule published April 2, 2019, at 84 FR 12566, is corrected. Interested parties may file comments on or before June 3, 2019; and reply comments on or before July 1, 2019.

FOR FURTHER INFORMATION CONTACT: Anna Gentry, Mobility Division, Wireless Telecommunications Bureau, at (202) 418-7769, email: anna.gentry@fcc.gov.

Correction

In the Federal Register of April 2, 2019, in FR Doc. 2019-06348, on page 12567, in the first column, correct the DATES section, and in the second column, correct the FOR FURTHER INFORMATION CONTACT section to read:

DATES: Interested parties may file comments on or before June 3, 2019; and reply comments on or before July 1, 2019.

FOR FURTHER INFORMATION CONTACT: Anna Gentry, Anna.Gentry@fcc.gov, of the Wireless Telecommunications Bureau, Mobility Division, (202) 418-7769. For additional information concerning the PRA information collection requirements contained in this document, contact Cathy Williams at (202) 418-2918 or send an email to PRA@fcc.gov.

Federal Communications Commission.
Marlene Dortch,
Secretary, Office of the Secretary.

[FR Doc. 2019-06930 Filed 4-8-19; 8:45 am]

BILLING CODE 6712-01-P